SMALL BUSINESS ADMINISTRATION

Office of the National Ombudsman; National Regulatory Fairness Board; Public Meeting

The U.S. Small Business Administration, Office of the National Ombudsman, National Regulatory Fairness Board will hold a public meeting on Monday, June 18, 2001, from 9 a.m. to 5 p.m. EST and Tuesday June 19, 2001, from 9 a.m. to 11 a.m. at the Crystal City Marriott (1999 Jefferson Davis Highway, Arlington, VA 22202) to discuss such matters as may be presented by Acting National Ombudsman, Dr. James Van Wert, Members of the Regulatory Fairness Board, staff of the Small Business Administration or others present. Anyone wishing to make an oral presentation to the Board must contact Dr. Van Wert, in writing by letter or fax no later than June 15, 2001, in order to be put on the agenda. For further information, please write or call James Van Wert, Designated Federal Official, U.S. Small Business Administration, 409 3rd Street, SW, Seventh Floor, Washington, DC 20416. Telephone number (202) 205-7024, Fax (202) 205-6066.

Nancyellen Gentile,
Committee Management Officer.

[FR Doc. 01-14883 Filed 6-12-01; 8:45 am]

BILLING CODE 8025-01-U